DEPARTMENT OF COMMERCE

International Trade Administration

[A-351-824]

Silicomanganese From Brazil: Notice of Amended Final Results of Antidumping Duty Administrative Review

AGENCY: Import Administration, International Trade Administration, Department of Commerce.

SUMMARY: The Department of Commerce (the Department) is amending the final results of administrative review of the antidumping duty order on silicomanganese from Brazil to reflect the correction of a ministerial error in those final results. The review covers the collapsed entity of SIBRA Electrosiderurgica Brasiliera S.A. (SIBRA), Companhia Paulista de Ferro-Ligas (CPFL), and Urucum Mineracao S.A. (Urucum) (collectively “SIBRA/CPFL/Urucum”). The period of review is December 1, 2001, through November 31, 2002.

EFFECTIVE DATE: May 24, 2004.

FOR FURTHER INFORMATION CONTACT: Katja Kravetsky or Mark Ross, Office of AD/CVD Enforcement 3, Import Administration, International Trade Administration, U.S. Department of Commerce, 14th Street and Constitution Avenue, N.W., Washington, D.C. 20230; telephone: (202) 482-0108 or (202) 482-4794, respectively.

SUPPLEMENTARY INFORMATION:

Background

On March 24, 2004, the Department published in the Federal Register the final results of the administrative review of the antidumping duty order on silicomanganese from Brazil. See Silicomanganese from Brazil: Final Results of Antidumping Duty Administrative Review, 69 FR 13813 (Final Results). On April 15, 2004, in response to timely filed ministerial-error allegations by SIBRA/CPFL/Urucum and the Eramet Marietta Inc. (the petitioner), we issued a memorandum detailing our analysis of the ministerial-error comments. See the April 15, 2004, memorandum titled “Silicomanganese from Brazil: Analysis of Ministerial-Error Comments” (Ministerial-Error Memo), the public version of which is on file in the Central Records Unit in room B-099 of the main Commerce building. On April 21, 2004, the petitioner filed a timely ministerial-error allegation pertaining to the Ministerial-Error Memo. Specifically, the petitioner alleged that the Department did not include the reported manufacturing costs for 15/20-grade silicomanganese in the calculation of the weighted-average cost of production and constructed value of the 16/20-grade silicomanganese sold in the United States as it stated it had in the Final Results. SIBRA/CPFL did not reply to this ministerial-error allegation.

Amendment to Final Results

We have reviewed the Ministerial-Error Memo and the calculations in the Final Results and find that the error alleged by the petitioner on April 21, 2004, constitutes a ministerial error within the meaning of 19 CFR 351.224(f). For a detailed analysis of the ministerial-error allegation and the Department's position, see the Memorandum to Jeffrey May, Deputy Assistant Secretary for Import Administration, from Laurie Parkhill, Office Director, dated May 14, 2004. Pursuant to section 751(h) of the Tariff Act of 1930, as amended (the Act), we have amended the Final Results by correcting this error, which changes the final antidumping duty margin from 13.02 percent to 16.50 percent. Consequently, we will issue amended cash-deposit instructions to U.S. Customs and Border Protection (CBP) to reflect the amendment of the final results of review.

Duty Assessment and Cash-Deposit Requirements

The Department will determine, and CBP shall assess, antidumping duties on all appropriate entries. In accordance with 19 CFR 351.212(b)(1), we have calculated an importer-specific assessment rate. The Department will issue appropriate assessment instructions directly to CBP within 15 days of publication of these amended final results of review. Further, the following deposit requirements will be effective upon publication of the amended final results of this administrative review for all shipments of silicomanganese from Brazil entered, or withdrawn from warehouse, for consumption on or after the publication date of the amended final results, as provided by section 751(a)(2)(C) of the Act: (1) The cash-deposit rate for SIBRA/CPFL/Urucum will be 16.50 percent; (2) for merchandise exported by producers or exporters that were previously reviewed or investigated, the cash-deposit rate will continue to be the most recent rate published in the final determination or final results for which the producer or exporter received an individual rate; (3) if the exporter is not a firm covered by these amended final results of review, a prior review, or the original less-than-fair-value (LTFV) investigation, but the manufacturer is, the cash-deposit rate will be the rate established for the most recent period for the manufacturer of the subject merchandise; and (4) if neither the exporter nor the manufacturer is a firm covered by these amended final results of review, the cash deposit rate will be 17.60 percent, the all-others rate established in the LTFV investigation. See Notice of Final Determination of Sales at Less Than Fair Value: Silicomanganese from Brazil, 59 FR 55432, (November 7, 1994). These deposit requirements shall remain in effect until publication of the final results of the next administrative review.

We are issuing and publishing these amended final results in accordance with section 751(h) of the Act and 19 CFR 351.224.

Dated: May 14, 2004.
James J. Jochum,
Assistant Secretary for Import Administration.

[FR Doc. 04-11678 Filed 5-21-04; 8:45 am]

BILLING CODE 3510-DS-S